DEPARTMENT OF LABOR

Employment and Training Administration

Proposed Information Collection Request Submitted for Public Comment and Recommendations; Labor Certification for the Temporary Employment of Nonimmigrant Aliens in Agriculture in the United States; Administrative Measures To Improve Program Performance

AGENCY: Employment and Training Administration, Labor.

ACTION: Notice; request for comments.

SUMMARY: The Department of Labor, as part of its continuing effort to reduce paperwork and respondent burden, conducts a preclearance consultation program to provide the general public and Federal agencies with an opportunity to comment on proposed and/or continuing collections of information in accordance with the Paperwork Reduction Act of 1995 (PRA95). 44 U.S.C. 3506(c)(2)(A). This program helps to ensure that requested data can be provided in the desired format, reporting burden (time and financial resources) is minimized, collection instruments are clearly understood, and the impact of collection requirements on respondents can be properly assessed. Currently, the Department of Labor is soliciting comments concerning the proposed extension of the Paperwork Reduction Act. A copy of the proposed information collection request (ICR) can be obtained by contacting the office listed below in the addressee section of this notice.

DATES: Written comments must be submitted to the office listed in the ADDRESSES section below August 20, 2002.

ADDRESSES: Submit written comments to Charlene G. Giles, Team Leader, Temporary Programs, Division of Foreign Labor Certification, Employment and Training Administration, 200 Constitution Avenue, NW., Room C-4318, Washington, DC 20210. Telephone: (202) 693-2950 (this is not a toll-free number).

SUPPLEMENTARY INFORMATION:

I. Background

At 64 FR 34958 (June 29, 1999), the Department amended its regulations to improve program performance related to the certification of temporary employment of nonimmigrant agricultural (H-2A workers) in the United States. One improvement was to modify the requirement that an employer notify the State Employment Security Agency (now known as the State Workforce Agency (SWA)), in writing, of the exact date on which the H-2A workers depart for the employer's place of business. The rule states that the departure date is now deemed to be the third day before the employer's first date of need for the foreign workers. Only if the workers do not depart by the date of need is the employer required to notify the SWA as soon as the employer knows that the workers will not depart by the first date of need, but no later than such date of need. The employer also must notify the SWA of the worker's expected departure date en route to the employment, if known. The departure date is used as the starting date of the contract period for the purposes of the “50-percent rule” under 20 CFR 655.103(e). That regulation provides that the employer must continue to provide employment to any qualified and eligible U.S. worker who applies to the employer until 50 percent of the work contract period, under which the foreign worker, who is in the job, has elapsed. The employer's obligation to engage in positive recruitment ends on the day the foreign workers depart for the employer's place of business. The employer, however, must keep an active job order on file until the “50 percent rule, has been met. The amendment to the regulations regarding the departure date notification substantially reduced the reporting burden on employers yet continued to allow the SWA to properly administer the “50 percent rule”.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

DOL and the SWAs continue to use the dates listed on the employer's application to calculate the employer's responsibilities under “50-percent rule”. The departure date (the third date before the date of need) is deemed the start date of the contract period in administration of the “50-percent rule” under 20 CR 655.103(e).

The collection of information requirement is being extended and revised to reflect annual reporting hour burdens changes based on an increase in the number of respondents. Additionally, the collection was revised to reflect a change in the name of the State Employment Security Agency (SESA) to State Workforce Agency (SWA).

Type of Review: Revision.

Agency: Employment and Training Administration.

Title: Labor Certification for the Temporary Employment of Nonimmigrant Aliens in Agriculture in the United States; Administrative Measures to Improve Program Performance.

OMB No: 1205-0404.

Affected Public: Farms are primarily affected and other business or other for-profit entities.

Total Respondents: 6,711.

Frequency: Once.

Total Responses: 4,079.

Average Time of Response: 15 minutes.

Estimated Total Burden Hours: 679 hours.

Total Burden Cost (capital/startup): $16,975.

Total Burden Cost: $0.

Comments submitted in response to this comment request will be summarized and/or included in the request for Office of Management and Budget approval of the information collection request; they will also become a matter of public record.

Signed at Washington DC, this 17th day of June, 2002.
Grace A. Kilbane,
Administrator, Office of Workforce Security.

[FR Doc. 02-15745 Filed 6-20-02; 8:45 am]

BILLING CODE 4510-30-P